DEPARTMENT OF THE INTERIOR

Office of Surface Mining Reclamation and Enforcement

30 CFR Part 938

[PA-166-FOR; Docket ID: OSM-2017-0008 S1D1S SS08011000 SX064A000 189S180110; S2D2S SS08011000 SX064A000 18XS501520]

Pennsylvania Regulatory Program; Correction

AGENCY: Office of Surface Mining Reclamation and Enforcement (OSMRE), Interior.

ACTION: Proposed rule; correction.

SUMMARY: We, the Office of Surface Mining Reclamation and Enforcement published a document in the Federal Register on May 8, 2018, reopening the comment period and announcing a public hearing on an amendment to the Pennsylvania Regulatory Program. The document contained an incorrect date for the public hearing.

FOR FURTHER INFORMATION CONTACT: Mr. Ben Owens, Chief, Pittsburgh Field Division, Telephone: (412) 937-2827. Email: bowens@osmre.gov.

Correction

In the proposed rule of May 8, 2018, in FR Doc. 2018-09767, on page 20774 in the third column, correct the DATES caption to read:

DATES: We will accept written comments until 4 p.m., Eastern Standard Time (EST), June 7, 2018. The public hearing will be held on May 17, 2018, from 5:30 p.m. until 7:30 p.m. EST.

Correction

In the proposed rule of May 8, 2018, in FR Doc. 2018-09767, on page 20775 in the first column, correct the “Public Hearing” caption to read:

Public Hearing: The public hearing will be held at the Double Tree by Hilton Pittsburgh-Green Tree, 500 Mansfield Avenue, Pittsburgh, Pennsylvania 15205; phone number: 412-922-8400, on Thursday, May 17, 2018, from 5:30 p.m. to 7:30 p.m. EST. Those wishing to provide oral testimony need to register between 5:00 p.m. and 5:30 p.m.

Dated: May 10, 2018.
Sterling J. Rideout,
Assistant Director, Program Support.

[FR Doc. 2018-10485 Filed 5-15-18; 8:45 am]

BILLING CODE 4310-05-P